DEPARTMENT OF DEFENSE

Office of the Secretary

Web-Based Mental Health Care Demonstration Project

AGENCY: Department of Defense.

ACTION: Notice of a Web-based TRICARE Assistance Program Demonstration Project.

SUMMARY: This Notice is to advise interested parties of a Military Health System (MHS) demonstration project, under the authority of Title 10, U.S. Code, Section 1092, entitled Web-Based TRICARE Assistance Program. The demonstration project will use existing managed care support contracts (MCSC) to provide a Web-based employee assistance program (EAP) including counseling and advice services to Active Duty Service members, their families members and their dependents enrolled in TRICARE Reserve Select, and those eligible for the Transition Assistance Management Program (TAMP) who reside in the continental United States. We are testing the effectiveness of providing this care.

DATES: Effective Date: This demonstration project will be effective August 1, 2009. The demonstration project will continue until April 1, 2010.

ADDRESSES: TRICARE Management Activity (TMA), Health Plan Operations, 5111 Leesburg Pike, Suite 810, Falls Church, VA 22041.

FOR FURTHER INFORMATION CONTACT: For questions pertaining to this demonstration project, Ms. Kathleen Larkin, (703) 681-0039.

SUPPLEMENTARY INFORMATION:

a. Background

On page 405 of House Report 2638, the Department of Defense Appropriations Act for FY 2009 Joint Explanatory Statement, Congress stated: “An area of particular interest is the provision of appropriate and accessible counseling to service members and their families who live in locations that are not close to military treatment facilities, other Military Health System facilities, or TRICARE providers. Web-based delivery of counseling has significant potential to offer counseling to personnel who otherwise might not be able to access it. Therefore, the Department is directed to establish and use a Web-based Clinical Mental Health Services Program as a way to deliver critical clinical mental health services to service members and families in rural areas.”

This demonstration is designed to test the effectiveness and efficiency of utilizing audio and visual technologies including Web-based services to provide our Active Duty Service members, their families and other beneficiaries increased access to EAP-like services.

b. Current Status of Access

The Department of Defense currently provides a robust program of nonmedical counseling, as well as mental health care for our Active Duty Service members and their families. The Department offers Military One Source which provides for up to 12 nonmedical face-to-face counseling sessions per issue, per counselor. For those needing medical treatment, we provide behavioral health care in our military treatment facilities or through our TRICARE program.

Our MCSCs currently provide an array of text and multimedia based educational materials targeting pre-deployment, deployment, and post-deployment adjustment concerns. They also have behavioral health (BH) contact centers staffed with beneficiary service representatives and customer service representatives to provide first and second level support, triage, and to make appropriate referrals and locate providers for Active Duty Service members and their families. This demonstration project will expand access to these behavioral health services by using audiovisual telecommunications systems such as video chat/instant messaging to access the BH centers. It also expands access to the Behavioral Health call centers and EAP-like counseling to those enrolled in TRICARE Reserve Select.

c. Demonstration Project Description

The MCSCs' Behavioral Health call center staff will triage those seeking help and refer them to an appropriate level of assistance. This may include Military One Source, a military treatment facility, a network provider for face-to-face care, or for a tele-health visit from an authorized originating site facility to a TRICARE authorized provider's office. In addition, they may perform unlimited assessments and nonmedical counseling or advice using a Web-based platform to ease access for Active Duty Service members, their families, those enrolled in TRICARE Reserve Select, and TAMP-eligibles.

d. Implementation

This demonstration will be effective August 1, 2009.

e. Evaluation

An independent evaluation of the demonstration will be conducted. It will be performed retrospectively and use a combination of administrative and workload measures of behavioral health care access to provide analyses and comment on the effectiveness of the demonstration in meeting its goal of improving beneficiary access to behavioral health care by incorporating Web-based technology.

Dated: July 21, 2009.
Patricia L. Toppings,
OSD Federal Register Liaison Officer, Department of Defense.

[FR Doc. E9-17652 Filed 7-23-09; 8:45 am]

BILLING CODE 5001-06-P